DEPARTMENT OF TRANSPORTATION

Federal Aviation Administration

Agency Information Collection Activities: Requests for Comments; Clearance of New Approval of Information Collection: Neighborhood Environmental Survey

AGENCY: Federal Aviation Administration (FAA), DOT.

ACTION: Notice and request for comments.

SUMMARY: In accordance with the Paperwork Reduction Act of 1995, FAA invites public comments about our intention to request the Office of Management and Budget (OMB) approval to undertake an information collection.

The Federal Register Notice with a 60-day comment period soliciting comments on the following collection of information was published on June 12, 2014, vol. 79, no. 113, pages 33797-33798. The purpose of this research is to conduct a nation-wide survey to update the scientific evidence of the relationship between aircraft noise exposure and its effects on communities around airports.

There were seven responses to the 60-day Federal Register Notice. The notice received comments from the Airlines for America (A4A), Village of Schaumburg, Illinois residents, City of Wood Dale Illinois residents, and several other private citizens representing themselves.

The notice received several positive comments stating that this survey is “absolutely necessary to update relationship between aircraft noise exposure and its effect on communities around United State airports.” There were clarifying questions on survey background in general, questionnaire content, method of airport selection and participants' selection.

DATES: Written comments should be submitted by October 14, 2014.

FOR FURTHER INFORMATION CONTACT: Kathy DePaepe at (405) 954-9362, or by email at: Kathy.DePaepe@faa.gov.

SUPPLEMENTARY INFORMATION:

OMB Control Number: 2120-XXXX (to be determined).

Title: Neighborhood Environmental Survey.

Form Numbers: There are no FAA forms associated with this collection of information.

Type of Review: Clearance of a new information collection.

Background: This Neighborhood Environmental Survey is necessary to update the relationship between aircraft noise exposure and its effect on communities around United States civilian airports. This survey will collect data on residents' annoyance from a representative sample of households surrounding airports chosen from a representative sample, and relate the annoyance level to the noise exposure for that address. The FAA will use the information from this collection to derive the empirical data to support potential updates to or validation of the national aviation noise policy.

Respondents: 12,147 respondents affected by airport noise.

Frequency: One time per respondent.

Estimated Average Burden per Response: Five minutes for a mail survey, twenty minutes for a telephone survey for selected respondents.

Estimated Total Annual Burden: 1,544 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 9, 2014.
Albert R. Spence,
FAA Assistant Information Collection Clearance Officer, IT Enterprises Business Services Division, ASP-110.

[FR Doc. 2014-21795 Filed 9-11-14; 8:45 am]

BILLING CODE 4910-13-P